DEPARTMENT OF THE TREASURY

Submission for OMB Review; Comment Request

January 8, 2013.

The Department of the Treasury will submit the following information collection request to the Office of Management and Budget (OMB) for review and clearance in accordance with the Paperwork Reduction Act of 1995, Public Law 104-13, on or after the date of publication of this notice.

DATES: Comments should be received on or before February 13, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Bureau of the Public Debt (BPD)

OMB Number: 1535-0009.

Type of Review: Revision of a currently approved collection.

Title: Request to Reissue U.S. Savings Bonds to a Personal Trust.

Form: PD F 1851.

Abstract: The information is necessary to support a request for reissue of savings bonds in the name of the trustee of a personal trust estate.

Affected Public: Individuals or Households.

Estimated Total Burden Hours: 4,500.

OMB Number: 1535-0104.

Type of Review: Revision of a currently approved collection.

Title: Application by Survivors for Payment of Bond or Check Issued Under Armed Forces Leave Act of 1946.

Form: PD F 2066 E.

Abstract: Used by survivors for payment of bonds issued under Armed Forces Leave Act of 1946. The information is to identify the bonds and/or checks involved and to establish a survivor's claim in order to issue payment.

Affected Public: Individuals or Households.

Estimated Total Burden Hours: 1,250.

OMB Number: 1535-0105.

Type of Review: Revision of a currently approved collection.

Title: Application for Recognition as Natural Guardian of Minor Not Under Legal Guardianship and for Disposition of Minor's Interest In Registered Securities.

Form: PD F 2481.

Abstract: The information is collected to apply for recognition as a natural guardian and request disposition of securities belonging to a minor in situations where a natural guardian is no longer acting or a legal representative is not appointed. Regulations governing U.S. Securities prohibit the registration of securities in the name of a minor in their own right. The natural guardian may be given responsibility for the securities. The information is used to identify the securities involved and to establish the authority to reissue the securities or payment in lieu thereof.

Affected Public: Individuals or Households.

Estimated Total Burden Hours: 208.

Dawn D. Wolfgang,
Treasury PRA Clearance Officer.

[FR Doc. 2013-00475 Filed 1-11-13; 8:45 am]

BILLING CODE 4810-39-P